DEPARTMENT OF VETERANS AFFAIRS

[OMB Control No. 2900-0021]

Agency Information Collection (VA Loan Electronic Reporting Interface (VALERI) System) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before July 15, 2010.

ADDRESSES: Submit written comments on the collection of information through http://www.Regulations.gov; or to VA's OMB Desk Officer, OMB Human Resources and Housing Branch, New Executive Office Building, Room 10235, Washington, DC 20503, (202) 395-7316. Please refer to “OMB Control No. 2900-0021” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-0021.”

SUPPLEMENTARY INFORMATION:

Title: VA Loan Electronic Reporting Interface (VALERI) System.

OMB Control Number: 2900-0021.

Type of Review: Revision of a currently approved collection.

Abstract: VA will use the information submitted through the VALERI system to perform supplemental servicing, determination on forbearance, foreclosure, protection of property and initiation of claim payment on loan guaranty homes.

An agency may not conduct or sponsor, and a person is not required to respond to a collection of information unless it displays a currently valid OMB control number. The Federal Register Notice with a 60-day comment period soliciting comments on this collection of information was published on April 7, 2010, at page 17832.

Affected Public: Business or other for profit.

Estimated Annual Burden: 70 hours.

Estimated Average Burden per Respondent: 1 second.

Frequency of Response: Daily.

Estimated Number of Respondents: 260.

Estimated Number of Responses: 967.

Dated: June 10, 2010.
By direction of the Secretary.
Denise McLamb,
Program Analyst, Enterprise Records Service.

[FR Doc. 2010-14313 Filed 6-14-10; 8:45 am]

BILLING CODE 8320-01-P